ENVIRONMENTAL PROTECTION AGENCY

[FRL-10013-99-Region 9]

Public Water System Supervision Program Revisions for the Navajo Nation

AGENCY: Environmental Protection Agency (EPA).

ACTION: Notice of tentative approval.

SUMMARY: Notice is hereby given that the Navajo Nation revised its approved Public Water System Supervision (PWSS) Program under the federal Safe Drinking Water Act (SDWA) by adopting the Arsenic Rule, Consumer Confidence Report (CCR) Rule, Filter Backwash Recycling Rule (FBRR), Lead and Copper Rule—Minor Revisions (LCR-MR), and Stage 1 Disinfectants and Disinfection Byproducts (DBP) Rule. The Environmental Protection Agency (EPA) has determined that these revisions by the Navajo Nation are no less stringent than the corresponding Federal regulations and otherwise meet applicable SDWA primacy requirements. Therefore, the EPA intends to approve these revisions to the Navajo Nation's PWSS Program.

DATES: Request for a public hearing must be received on or before September 28, 2020.

ADDRESSES: Information submitted by the Navajo Nation relating to this determination are available for inspection on http://www.navajoepa.org. If there are issues with accessing the website, contact Yolanda Barney, Navajo PWSS Program, via telephone at (928) 871-7715; or via email at ybarney@navajopublicwater.org.

FOR FURTHER INFORMATION CONTACT: Bessie Lee, EPA Region 9, Drinking Water Section (WTR-4-1), 75 Hawthorne Street, San Francisco, CA 94105; via telephone at (415) 972-3776; or via email address at lee.bessie@epa.gov.

SUPPLEMENTARY INFORMATION:

Background. The EPA approved the Navajo Nation's original application for PWSS Program primary enforcement authority on October 23, 2000 (65 FR 66541). Primacy states such as the Navajo Nation must adopt and submit for approval to EPA all new and revised national primary drinking water regulations. Since that initial approval, EPA has worked with the Navajo Nation to review and approve various revisions to Navajo's primacy program. For the revisions covered by this action, EPA published the latest iteration of the Arsenic Rule in the Federal Register on January 22, 2001 (66 FR 6976) and promulgated this rule at 40 CFR part 141 Subpart G; published the CCR Rule on August 19, 1998 (63 FR 44512) and promulgated this rule at 40 CFR part 141 Subpart O; published the FBRR on June 8, 2001 (66 FR 31086) and promulgated this rule at 40 CFR part 141 Subpart P; published the LCR-MR to the 1991 Lead and Cooper Rule on January 12, 2000 (65 FR 1950) and promulgated at 40 CFR part 141 Subpart I; and published the Stage 1 DBP Rule on December 16, 1998 (63 FR 69390) and promulgated this rule at 40 CFR part 141 Subpart L. The Navajo Nation has incorporated these federal drinking water rules by reference into its Navajo Nation Primary Drinking Water Regulations (NNPDWRs), and therefore they parallel the federal requirements. The relevant citations to the NNPDWRs are: Part IV for the Arsenic Rule, Part XII for the CCR Rule, Part VIII for the FBRR, Part VII for the LCR-MR, and Part XI for the Stage 1 DBP Rule. These are the primacy revisions that the EPA Region 9 tentatively approves as part of the Navajo PWSS Program.

Public Process. Any interested party may request a public hearing on this determination. A request for a public hearing must be submitted by September 28, 2020, to the Regional Administrator (RA) of EPA Region 9, to the address shown above. Please note on the mailing envelope “Request for Public Hearing”. The RA may deny frivolous or insubstantial requests for a hearing. If a substantial request for a public hearing is made by September 28, 2020, EPA Region 9 will hold a public hearing. Any request for a public hearing shall include the following information: (1) The name, address, and telephone number of the individual, organization, or other entity requesting a hearing; (2) a brief statement of the requesting person's or organization's interest in the RA's determination and a brief statement of the information that the requesting person intends to submit at such hearing; and (3) the signature of the individual making the request, or, if the request is made on behalf of an organization or other entity, the signature of a responsible official of the organization or other entity.

If EPA Region 9 does not receive a timely and substantive request for a hearing and the RA does not elect to hold a hearing on his own motion, the determination at issue in this notice, the EPA's approval shall become final and effective on September 28, 2020, and no further public notice will be issued. EPA Region 9 will provide public notice of any public hearing held pursuant to a request submitted by an interested person or on EPA's own motion. If a public hearing is held, EPA Region 9 will issue an order either affirming or rescinding the determination. If EPA Region 9 affirms the determination, it will become effective as of the date of the order.

Authority: Section 1413 of the Safe Drinking Water Act, 42 U.S.C. 300g-2 (1996), and 40 CFR part 142 of the National Primary Drinking Water Regulations.

Dated: August 19, 2020.
John W. Busterud,
Regional Administrator, EPA Region 9.

[FR Doc. 2020-19005 Filed 8-27-20; 8:45 am]

BILLING CODE 6560-50-P